DEPARTMENT OF TRANSPORTATION

Pipeline and Hazardous Materials Safety Administration

Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in February to April 2012. The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Dated: Issued in Washington, DC, on May 8, 2012.
Donald Burger
Chief, Special Permits and Approvals Branch.

S.P. No. | Applicant | Regulation(s) | Nature of special permit thereof
Modification Special Permit Granted
8826-M | Phoenix Air Group, Inc. Cartersville, GA | 49 CFR 172.101; 172.204(c) (3); 173.27; 175.30(a)(1); 175.320(b) | To modify the special to reflect the current statutes and regulations changes.
14909-M | Lake Clark Air, Inc. Port Alsworth, AK | 49 CFR 173.304(f) | To reissue the special permit originally issued on an emergency basis authorizing the transportation in commerce of compressed oxygen without rigid outer packaging when no other means of transportation exist.
10656-M | Conference of Radiation Control Program Directors, Inc. Frankfort, KY | 49 CFR 172.203(d); Part 172, Subparts C, D, E, F, G | To modify the special permit add 49 CFR Part 172 Subpart I as it pertains to security plans to the list of regulations exempted in paragraph 4.
11406-M | Conference of Radiation Control Program Directors, Inc. Frankfort, KY | 49 CFR Part 172, Subparts C, D, E, F, G, H; Part 173, Subparts B, I; 173.22(a)(1); Part 174, Subpart K; 177.842 | To modify the special permit add 49 CFR Part 172 Subpart I as it pertains to security plans to the list of regulations exempted in paragraph 4.
11670-M | Schlumberger Oilfield UK Plc Dyce, Aberdeen Scotland, Ab | 49 CFR 178.36 | To modify the exemption to authorize the use of a newly designed non-DOT specification oil well sampling cylinder for the transportation of Division 2.1 materials.
14193-M | Honeywell International, Inc. Morristown, NJ | 49 CFR 173.313 | To reissue the exemption originally issued on an emergency basis for the transportation of non-DOT specification IMO Type 5 portable tanks, mounted in an ISO frame, containing certain Division 2.2 and 2.3 materials.
10646-M | Schlumberger Technologies Corporation Sugar Land, TX | 49 CFR 173.302 | To modify the special permit to authorize an additional material in the construction of non-DOT specification cylinders.
14457-M | Amtrol Alfa Metalomecanica SA Portugal | 49 CFR 173.304a(a)(1) | To modify the special permit to extend the external visual inspection to every five (5) years.
14808-M | Amtrol, Inc. West Warwick, RI | 49 CFR 178.51(b), (f)(1) and (2) and (g) | To modify the special permit to authorize a longer time between requalification testing.
14940-M | Crown Aerosol Packaging Philadelphia, PA | 49 CFR 173.306 | To modify the special permit to authorize rail freight and cargo vessel as additional modes of transportation.
13381-M | Carleton Technologies, Pressure Technology Division Westminster, MD | 49 CFR 173.302(a)(1), 173.304(a), 175.3 and 180.205 | To modify the special permit to authorize an extended testing time period for cylinders which are past their retest date but are not empty.
14616-M | Chlorine Service Company Kingwood, TX | 49 CFR 178.245-1(a) | To modify the special permit to correct pressure ranges to bring it in line with other special permits issued.
11215-M | Orbital Sciences Corporation Mojave, CA | 49 CFR Part 172, Subparts C, D; 172.101, Special Provision 109 | To modify the special permit to add a Class 9 material.
New Special Permit Granted
14951-N | Lincoln Composites Lincoln, NE | 49 CFR 173.302a | To authorize the manufacture, marking, sale and use of a non-DOT specification fully wrapped fiber reinforced composite gas cylinders for the transportation of certain compressed gases. (modes 1, 2, 3)
15458-N | Southern States LLC | 49 CFR 49 CFR Parts 171-181; 49 CFR 172.301(c); and 173.304 | To authorize the transportation in commerce of specially designed non-DOT specification cylinders containing compressed sulfur hexafluoride. (modes 1, 2, 3, 4)
15451-N | NK CO., LTD Gangseo-Gu, Busan | 49 CFR 180.209(a) and (b) | To authorize the transportation in commerce of certain DOT 3AA, 3AAX and 3T cylinders in Multiple Element Gas Containers that have been retested every ten (10) years instead of every five (5) years by acoustic emission and ultrasonic examination (AE/UE) in place of the internal visual inspection and the hydrostatic retest required by § 180.205. (modes 1, 2, 3)
15452-N | BE Aerospace Lenexa, KS | 49 CFR 173.302(f)(2)(i) | To authorize the transportation in commerce of certain DOT Specification 39 cylinders containing oxygen that have their pressure relief devices set to an alternative burst at pressure range. (modes 4, 5)
15516-N | Moog Inc. East Aurora, NY | 49 CFR Part 172, Subpart C | To authorize the transportation in commerce of certain waste hazardous materials between Moog plants without shipping paper documentation for less than one half mile by private motor vehicle. (mode 1)
15517-N | Mountain West Helicopters, LLC Alpine, UT | 49 CFR 172.101 Column (9B), 172.204(c)(3), 173.27(b)(2), 175.30(a)(1), 172.200, 172.300 and 172.400 | To authorize the transportation in commerce of certain hazardous materials by external load in remote areas of the U.S. without being subject to hazard communication requirements and quantity limitations where no other means of transportation is available. (mode 4)
15507-N | Yiwu Jinyu Machinery Factory Jiangwan Town, Yiwu City | 49 CFR 173.304(d) | To authorize the manufacture, marking, sale and use of a non-refillable, non-DOT specification inside metal container similar to a DOT 2Q for the transportation in commerce of certain Division 2.1 and 2.2 gases. (modes 1, 2, 3, 4)
15509-N | The Virginia Commercial Space Flight Authority Norfolk, VA | 49 CFR 173.301 and 173.302a | To authorize the transportation in commerce of Helium in a non-DOT specification packaging for a short distance by motor vehicle. (mode 1)
15483-N | United Space Alliance Houston, TX | 49 CFR 173.302a | To authorize the transportation in commerce of certain Division 2.2 compressed gases in non-DOT specification cylinders to support the International Space Station Human Research Facility Gas Delivery System. (modes 1, 2, 3, 4, 5)
15541-N | T.L. Forest Products, Inc., dba Timberland Logging Ashland, OR | 49 CFR 49 CFR Parts 172.101, Column(9b), 172.204(c)(3), 173.27(b)(2), 175.30(a)(1), 172.200, 172.300, and 172.400 | To authorize the transportation in commerce of certain hazardous materials by cargo aircraft including by external load in remote areas without being subject to hazard communication requirements and quantity limitations where no other means of transportation is available. (mode 4)
15532-N | SET Environmental Inc. Wheeling, IL | 49 CFR 173.244 | To authorize the one-time, one-way transportation in commerce of one irregularly shaped sodium dispersion vessels in alternative packaging. (mode 1)
15536-N | WavesinSolids LLC State College, PA | 49 CFR 173.302 and 180.209 | To authorize the transportation in commerce of certain cylinders which have been alternatively ultrasonically retested for use in transporting Division 2.1, 2,2 and 2.3 materials. (modes 1, 2, 3, 4, 5)
15537-N | Alaska Pacific Powder Company Watkins, CO | 49 CFR 172.101 Column (9B) | To authorize the transportation in commerce of certain Class 1 explosive materials which are forbidden for transportation by air, to be transported by cargo aircraft within the State of Alaska when other means of transportation are impracticable or not available. (mode 4)
15556-N | Winco Inc. Aurora, OR | 49 CFR 49 CFR Table 172.101, Column (9B), 172.204(c)(3), 173.27(b)(2) and 175.30(a)(1) 172.200 and 172.301(c) and 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4)
15560-N | San Joaquin Helicopters Delano, CA | 49 CFR 172.101 Column (9B), 172.204(c)(3), 173.27(b)(2), 175.30(a)(1), 172.200, 172.300, 172.400, 173.302(f)(3) and 175.75 | To authorize the transportation in commerce of certain hazardous materials by Part 133 Rotorcraft External Load Operations, attached to or suspended from an aircraft, in remote areas of the U.S. without meeting certain hazard communication and stowage requirements. (mode 4)
15535-N | PM HELI-OPS, INC CENTRAL POINT, OR | 49 CFR 172.101 Column (9B), 172.204(c)(3), 173.27(b)(2) and 175.30(a)(1) | To authorize the transportation in commerce of certain forbidden explosives in sling load operations in remote areas of the U.S. without being subject to hazard communication requirements, quantity limitations and certain loading and stowage requirements. (mode 4)
15233-N | ExpressJet Airlines, Inc. Houston, TX | 49 CFR 173.309, 172.301(c) | To authorize the transportation in commerce of certain non-DOT specification and DOT-4DA and 4DS specification cylinders, used as fire suppression systems in aircraft to be shipped, as fire extinguishers. (modes 1, 2, 3, 4, 5)
Emergency Special Permit Granted
15118-M | Mystery Creek Resources Inc. McGrath, AK | 49 CFR 172.101 Column (9B) | To add nitric acid to the table in paragraph 6 and also to authorize transportation from 3 additional airports. (mode 4)
15418-N | Southwest Airlines Dallas, TX | 49 CFR 172.301(c); 173.219(b)(1) | To authorize the transportation in commerce of life-saving appliances containing a compressed gas cylinder that is filled in excess of its marked service pressure. (modes 1, 4, 5)
15467-N | Dena'ina Air Taxi LLC Anchorage, AK | 49 CFR 172.101 Column (9B) | To authorize the transportation in commerce of certain Class 1 explosive materials which are forbidden for transportation by air, to be transported by cargo aircraft within the State of Alaska when other means of transportation are impracticable or not available. (mode 4)
15540-N | Andrew Airways, Inc. Kodiak, AK | 49 CFR 175.310(c) | To authorize the transportation in commerce of certain non-DOT specification bulk packages containing Class 3 material by cargo aircraft where no other means of transportation is practicable. (mode 4)
15551-N | Zapata Incorporated Charlotte, NC | 49 CFR 173.21(e) | To authorize the transportation in commerce of a Division 4.1, Packing Group II material by highway, that has the potential to react during transportation. (mode 1)
15584-N | Pacific Bio-Material Management, Inc. d/b/a Pacific Scientific Transport Fresno, CA | 49 CFR 173.196, 173.197(d)(3)(ii) | To authorize the transportation in commerce human and animal tissue samples in non-specification packaging. (mode 1)
15562-N | Crowley Petroleum Distribution, Inc. Anchorage, AK | 49 CFR 172.101 Hazardous Materials Table Column (9B) | To authorize the transportation in commerce of propane by cargo only aircraft in packages that exceed the quantity limitation where no other means of transportation is available. (mode 4)
Modification Special Permit Withdrawn
13336-M | Renaissance Industries, Inc. Sharpsville Operations M-1102 Sharpsville, PA | 49 CFR 173.302(a)(1); 173.304; 175.3 | To modify the special permit to authorize additional Division 2.2 gases.
9168-M | All-Pak Dangerous Goods, a Division of Berlin Packaging (Former Grantee All-Pak, Inc.) Bridgeville, PA | 49 CFR Part 172; Subpart E; 173.118; 173.244; 173.345; 173.346; 173.359; 173.370; 173.377; 175.3; 175.33; 172.504; 173.3 | To modify the special permit to authorize an additional mode of transportation (cargo vessel.)
New Special Permit Withdrawn
15469-N | B.J. Alan Company, Youngstown, OH | 49 CFR 173.62 | To authorize the transportation in commerce of certain fireworks in large packagings. (mode 1)
Emergency Special Permit Withdrawn
15053-N | Department of Defense Scott Air Force Base, IL | 49 CFR 173.302 and 173.304 | To authorize the transportation in commerce of certain Division 2.1 and 2.2 gases in non-DOT specification packagings. (modes 1, 4)
Denied
12561-M | Request by Rhodia, Inc. Cranbury, NJ February 15, 2012. To modify the special permit by amending Paragraph 7 to reflect existing AAR and 49 CFR construction specifications for DOT 111 tank cars.
14872-N | Request by Arkema, Inc. King of Prussia, PA March 05, 2012. To authorize the transportation in commerce of methyl mercaptan in certain DOT 105J300W tank cars.
15317-N | Request by The Dow Chemical Company PHILADELPHIA, PA March 05, 2012. To authorize the transportation in commerce of ethylene oxide in a DOT 105J400W tank car with a maximum gross rail load (GRL) not to exceed 286,000 pounds.
15497-N | Request by U.S. Department of Energy Washington, DC March 13, 2012. To authorize the transportation in commerce of radioactive materials without being subject to the requirements in 49 CFR 173.417(a)(1)(i).
15503-N | Request by Garden City Co-op, Inc. Garden City, KS March 05, 2012. To authorize the transportation in commerce of certain cargo tanks used as an implementation of husbandry with a capacity of 5,000 gallons containing anhydrous ammonia.
15546-N | Request by T. SCOTT DUNN CONSTRUCTION, INC. DBA Heli-Dunn Phoenix, OR February 01, 2012. To authorize the transportation in commerce of certain hazardous materials by external load in remote areas of the U.S. without being subject to hazard communication requirements and quantity limitations where no other means of transportation is available.

[FR Doc. 2012-11659 Filed 5-16-12; 8:45 am]

BILLING CODE 4909-60-P